DEPARTMENT OF LABOR

Employment and Training Administration

[TA-W-41, 640]

Halmode Apparel, Inc., Roanoke, VA; Notice of Negative Determination Regarding Application for Reconsideration

By application received on September 5, 2002, a company official requested administrative reconsideration of the Department's negative determination regarding eligibility for workers and former workers of the subject firm to apply for Trade Adjustment Assistance (TAA). The denial notice applicable to workers of Halmode Apparel Inc., Roanoke, Virginia was signed on August 26, 2002, and published in the Federal Register on September 10, 2002 (67 FR 57456).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition was filed on behalf of workers at Halmode Apparel Inc., Roanoke, Virginia engaged in activities related to the distribution of apparel. The petition was denied because the petitioning workers did not produce an article within the meaning of section 222(3) of the Act.

The petitioner alleges that layoffs at Halmode Apparel Inc., Roanoke, Virginia were “directly related to the impact of imports”. The petitioner stated that the subject facility had once served as a production facility and that that production had been shifted abroad.

Since that production ceased in 1998, it falls outside the time frame of this investigation.

The petitioner also alleges that the loss of jobs at the subject facility was impacted by imports due to the company shifting its distribution services to a location that was more cost effective to receive import shipments.

As the worker activity that was shifted did not involve production, the shift in subject firm activities is irrelevant.

Only in very limited instances are service workers certified for TAA, namely the worker separations must be caused by a reduced demand for their services from a parent or controlling firm or subdivision whose workers produce an article and who are currently under certification for TAA.

In conclusion, the workers at the subject firm did not produce an article within the meaning of section 222(3) of the Trade Act 1974.

Conclusion

After review of the application and investigative findings, I conclude that there has been no error or misinterpretation of the law or of the facts which would justify reconsideration of the Department of Labor's prior decision. Accordingly, the application is denied.

Signed in Washington, DC, this 3rd day of February, 2003.
Edward A. Tomchick,
Director, Division of Trade Adjustment Assistance.

[FR Doc. 03-4281 Filed 2-21-03; 8:45 am]

BILLING CODE 4510-30-P